GENERAL SERVICES ADMINISTRATION

41 CFR Part 301-10

[FTR Amendment 2009-02; FTR Case 2009-302; Docket 2009-0001; Sequence 02]

RIN 3090-AI43

Federal Travel Regulation (FTR); Fly America Act; United States and European Union “Open Skies” Air Transport Agreement (US-EU Open Skies Agreement)

AGENCY: Office of Governmentwide Policy, General Services Administration (GSA).

ACTION: Final rule.

SUMMARY: GSA is amending the Federal Travel Regulation (FTR) provisions pertaining to the use of United States Flag air carriers under the provisions of the “Fly America Act.” This final rule incorporates language that informs readers where to find additional information regarding bilateral or multilateral air transportation agreements to which the United States Government and the government of a foreign country are parties, and which the Department of Transportation has determined meets the requirements of the Fly America Act. As these agreements qualify as exceptions to the use of U.S. flag air service pursuant to FTR section 41 CFR 301-10.135(b), this final rule advises of an Internet based source of information regarding the use of foreign air carriers under the terms of these bilateral or multilateral agreements.

DATES: This final rule is effective on January 15, 2009.

FOR FURTHER INFORMATION CONTACT: The Regulatory Secretariat (VPR), Room 4041, GS Building, Washington, DC 20405, (202) 208-7312, for information pertaining to status or publication schedules. For clarification of content, contact Mr. Rodney R. Miller, Office of Travel, Transportation and Asset Management (MT), General Services Administration at (202) 501-3822 or e-mail at Rodney.miller@gsa.gov. Please cite FTR Amendment 2009-02; FTR case 2009-302.

SUPPLEMENTARY INFORMATION:

A. Background

Passengers are required by 49 U.S.C. 40118, commonly referred to as the “Fly America Act,” to use United States flag air carrier service for all air travel funded by the United States Government. One exception to this requirement is transportation provided under a bilateral or multilateral air transportation agreement to which the United States Government and the government of a foreign country are parties, and which the Department of Transportation has determined meets the requirements of the Fly America Act.

The United States Government has entered into several air transportation agreements which allow federally-funded passengers to use foreign air carriers under certain circumstances. For example, on April 30, 2007, the United States-European Union “Open Skies” Air Transport Agreement (US-EU Open Skies Agreement) was signed, providing EU member airlines the right to transport passengers and cargo on scheduled and charter flights funded by the United States Government under certain conditions. On March 4, 2008, GSA published a proposed rule in the Federal Register (73 FR 11576) with a request for comments concerning a proposal that would incorporate the US-EU Open Skies Agreement language pertaining to United States Government funded travelers into the FTR. Only one comment was received from the Association of Private Voluntary Organization Financial Managers (APVOFM). APVOFM strongly supported the proposed rule.

However, since the issuance of the proposed rule, the United States has also signed air transport agreements with Australia and Switzerland that include text relating to United States Government procured transportation. The provisions in both the Australia and Switzerland agreements became effective on October 1, 2008.

Accordingly, rather than amend the FTR to include language from these agreements, and thereafter amending the FTR each time future agreements are signed, GSA is issuing this final rule to provide for an Internet based source (http://www.gsa.gov/openskies) of information relating to air transportation agreements that impact United States Government funded transportation. This approach will allow GSA to quickly provide and update relevant information to Federal agencies as new agreements are signed or current agreements are amended without invoking the regulatory process. In the future, if GSA determines that further guidance is necessary, GSA will issue FTR Bulletins as appropriate.

B. Executive Order 12866

This final rule is not a significant regulatory action and, therefore, was not subject to review under Section 6(b) of Executive Order 12866, Regulatory Planning and Review, dated September 30, 1993. This final rule is not a major rule under 5 U.S.C. 804.

C. Regulatory Flexibility Act

This final rule is not required to be published in the Federal Register for notice and comment therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget (OMB) under 44 U.S.C. 3501, et seq.

E. Small Business Regulatory Enforcement Fairness Act

This final rule is also exempt from congressional review prescribed under 5 U.S.C. 801 since it relates to agency management and personnel.

List of Subjects in 41 CFR Part 301-10

Government employees, Travel and transportation expenses.

Dated: December 12, 2008.
James A. Williams,
Acting Administrator of General Services.

For the reasons set forth in the preamble, GSA amends 41 CFR part 301-10 as follows:

PART 301-10—TRANSPORTATION ALLOWABLE

1. The authority citation for 41 CFR part 301-10 continues to read as follows:

Authority: 5 U.S.C. 5707; 40 U.S.C. 121(c); 49 U.S.C. 40118; Office of Management and Budget Circular No. A-126, “Improving the Management and Use of Government Aircraft” Revised April 28, 2006.

2. Amend § 301-10.135 by revising paragraph (b) to read as follows:

§ 301-10.135 When must I travel using U.S. Flag air carrier service?

* * * * *

(b) The transportation is provided under a bilateral or multilateral air transportation agreement to which the United States Government and the government of a foreign country are parties, and which the Department of Transportation has determined meets the requirements of the Fly America Act.

(1) Information on bilateral or multilateral air transportation agreements impacting United States Government procured transportation can be accessed at http://www.gsa.gov/openskies; and

(2) If determined appropriate, GSA may periodically issue FTR Bulletins providing further guidance on bilateral or multilateral air transportation agreements impacting United States Government procured transportation. These bulletins may be accessed at http://www.gsa.gov/bulletins.

* * * * *

[FR Doc. E9-560 Filed 1-14-09; 8:45 am]

BILLING CODE 6820-14-P